DEPARTMENT OF ENERGY

Federal Energy Regulatory Commission

[Docket No. RP00-454-000]

Arkansas Western Pipeline, L.L.C.; Notice of Proposed Changes in FERC Gas Tariff

August 16, 2000.

Take notice that on August 9, 2000, Arkansas Western Pipeline, L.L.C. (AWP) tendered for filing as part of its FERC Gas Tariff, Original Volume No. 1, the following revised tariff sheets, to be effective September 8, 2000:

Second Revised Sheet No. 13

Second Revised Sheet No. 105

AWP states that the purpose of this filing is to comply with requirements of FERC Order Nos. 637, 637-A and 637-B that pipelines make tariff filings to remove from their tariff provisions inconsistent with the removal of the price ceiling on short-term capacity releases.

AWP further states that it has served copies of this filing upon the company's jurisdictional customers and interested state commissions. Questions concerning this filing may be directed to counsel for AWP, James F. Bowe, Jr., Dewey Ballantine LLP, at (202) 429-1444, fax (202) 429-1579, or jbowe@deweyballantine.com.

Any person desiring to be heard or to protest said filing should file a motion to intervene or a protest with the Federal Energy Regulatory Commission, 888 First Street, N.E., Washington, D.C. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-21293 Filed 8-21-00; 8:45 am]

BILLING CODE 6717-01-M